DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: The American Community Survey.

OMB Control Number: 0607-0810.

Form Number(s): Various.

Type of Request: Revision of a currently approved collection.

Burden Hours: 2,455,868.

Number of Respondents: 3,760,000.

Average Hours per Response: The ACS Household questionnaire takes 40 minutes on average to complete.

Needs and Uses: The U.S. Census Bureau requests authorization from the Office of Management and Budget (OMB) for revisions to the American Community Survey (ACS). The Census Bureau has developed a methodology to collect and update every year demographic, social, economic, and housing data that are essentially the same as the “long-form” data that the Census Bureau traditionally has collected once a decade as part of the decennial census. Federal and state government agencies use such data to evaluate and manage federal programs and to distribute funding for various programs that include food stamp benefits, transportation dollars, and housing grants. State, county, and community governments, nonprofit organizations, businesses, and the general public use information like housing quality, income distribution, journey-to-work patterns, immigration data, and regional age distributions for decision-making and program evaluation.

Using the Master Address File (MAF) from the decennial census, that is updated each year, we will select a sample of addresses, mail survey forms each month to a new group of potential households, and attempt to conduct interviews over the telephone with households that have not responded. Upon completion of the telephone follow-up, we will select a sub-sample of the remaining households, which have not responded, typically at a rate of one in three, to designate a household for a personal interview. We will also conduct interviews with a sample of residents at a sample of group quarters (GQ) facilities. Collecting these data from a new sample of housing unit (HU) and GQ facilities every month provides more timely data and lessened respondent burden in the Decennial Census.

We release a yearly microdata file, similar to the Public Use Microdata Sample file of the Census 2000 long-form records. In addition, we produce total population summary tabulations similar to the Census 2000 tabulations down to the block group level. The microdata files, tabulated files, and their associated documentation are available through the Internet.

Historically the ACS has employed a tri-modal data collection strategy for household data collection—mail, telephone and personal visit. In 2011 the Census Bureau conducted two tests to assess the feasibility of providing an Internet response option to households that receive survey materials by mail. These tests evaluated various methods for providing an Internet response option. Based on the results of these tests, the ACS will add an Internet response option in 2013. If during the course of our preparation activities in 2012 to implement an Internet response option in 2013 we encounter challenges that might delay the Internet implementation after the start of 2013, we may consider continuing the current 2012 mail strategy into early 2013 with the incorporation of the 2013 content changes described later in this document. If the Census Bureau decides to pursue this as a contingency, we will submit a non-substantive change request for OMB approval which would include the modified mail materials. Based on concerns with the results of the 2011 testing in Puerto Rico, we will be delaying the implementation of an Internet response option there until a later date while we assess better alternatives.

For the 2013 ACS, we will use modified data collection materials based upon results of the 2010 ACS Content Test. The content of the proposed 2013 ACS questionnaire and data collection instruments for both HU and GQ operations reflect changes to content, instructions, and forms design that were tested in 2010.

The 2010 ACS Content Test resulted in recommendations to OMB to modify five (one housing and four population) question series on the ACS. The modified housing question is the food stamp question, which at the request of the Food and Nutrition Service is being revised to incorporate the program name change to the Supplemental Nutrition Assistance Program (SNAP). The new version will be used in all collection modes. The modified population questions are: veteran status and period of service, and property income and wages. The Census Bureau revised the property income and wage questions to improve response by breaking up these questions into shorter pieces to improve comprehension when the questions are asked by an interviewer. This change will be incorporated into the interviewer-administered modes only. At the request of the Department of Veteran Affairs, the Census Bureau revised the veteran status and period of service questions to simplify the reporting categories. The new version will be used by all collection modes.

The Census Bureau proposes including two new subjects on the ACS: computer and Internet usage and parental place of birth. As authorized by the Broadband Data Improvement Act of 2008, the Federal Communications Commission sponsored the computer and Internet usage topic; it is comprised of three questions with a mix of fixed choice and open-ended responses. The Census Bureau sponsored the parental place of birth topic; it includes two open-ended questions.

The Census Bureau believes there is added value in collecting information about parental place of birth, though some may feel that this topic is somewhat duplicative when collected in connection with existing survey questions on race, Hispanic origin, and ancestry. Adding the parental place of birth questions to the questionnaire in 2013 would be done as part of a multi-year process to further examine the relationship of the data for these topics. The ACS data would also be evaluated in connection with results from the 2010 Census Alternative Questionnaire Experiment, and this combined research would be used in determining recommendations for which questions would remain on the ACS at the conclusion of this process. The Census Bureau plans to provide various opportunities for public comment as well as dialogue with groups that are especially interested in these data as we refine the plans and share results on this cross-topical research.

There is one proposed change that would be unique to the Puerto Rico Community Survey (PRCS) that was not tested during the 2010 ACS Content Test. Concerns with data for Puerto Rico related to the changes implemented to the plumbing questions in 2008 led to further investigation of how these questions were being interpreted in Puerto Rico. Cognitive testing conducted with Puerto Rico residents confirmed that confusion was common related to how to respond to the question “Does this house, apartment or mobile home have hot and cold running water?” because it is common for housing units in Puerto Rico to not have a water heater. After discussions with the Puerto Rico Planning Board, the Census Bureau proposes modifying the PRCS version of this question by replacing it with two separate questions: “Does this house, apartment or mobile home have running water?” and “Does this house, apartment or mobile home have a water heater?”

Affected Public: Individuals or households.

Frequency: The ACS is an ongoing survey conducted monthly. Respondents are asked to provide a one-time response.

Respondent's Obligation: Mandatory.

Legal Authority: Title 13 U.S.C., Sections 141, 193, and 221.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230, (or via the Internet at jjessup@doc.gov).

Written comments and recommendations for the proposed information collection should be sent within 30 days of publication of this notice to Brian Harris-Kojetin, OMB Desk Officer either by fax (202-395-7245) or email (bharrisk@omb.eop.gov).

Dated: March 22, 2012.
Glenna Mickelson,
Management Analyst, Office of the Chief Information Officer.

[FR Doc. 2012-7332 Filed 3-26-12; 8:45 am]

BILLING CODE 3510-07-P